FEDERAL COMMUNICATIONS COMMISSION

[FR ID 327629]

Sunshine Act Meeting; Open Commission Meeting Thursday, January 29, 2026

January 22, 2026.

The Federal Communications Commission will hold an Open Meeting on the subjects listed below on Thursday, January 29, 2026 which is scheduled to commence at 10:30 a.m. in the Commission Meeting Room of the Federal Communications Commission, 45 L Street NE, Washington, DC.

While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Office Of Engineering and Technology | Title: Expanding Unlicensed Operations in the 6 GHz Band (ET Docket No. 18-295)
|  | Summary: The Commission will consider a Fourth Report and Order that would permit a new class of unlicensed 6 GHz devices—geofenced variable power (GVP) unlicensed devices—that operate outdoors at higher power. The Commission will also consider a Third Further Notice of Proposed Rulemaking that would allow for increased power for certain 6 GHz operations controlled by automated frequency coordination systems and extend low-power indoor operations to cruise ships.
2 | Wireline Competition | Title: Establishing Transparency in Foreign Adversary Control (GN Docket No. 25-166)
|  | Summary: The Commission will consider a Report and Order that would adopt new attestation and disclosure requirements for holders of Commission-granted licenses, leases, authorizations, permits, grants and other approvals, that would enhance public transparency over Foreign Adversary Control over U.S. communications networks operators.
3 | Office of International Affairs | Title: Promoting Clarity By Codifying and Simplifying Foreign Ownership Rules (GN Docket No. 25-149)
|  | Summary: The Commission will consider a Report and Order that would adopt clarifications to the Commission's foreign ownership rules and practices for foreign investment in common carrier wireless and aeronautical radio, and broadcast licensees to reduce unnecessary burdens on industry while continuing to protect the public interest, including national security, law enforcement, foreign policy, and trade policy.
4 | Consumer and Governmental Affairs | Title: Telecommunications Relay Services and Speech-to-Speech Services for Individuals with Hearing and Speech Disabilities (CG Docket No. 03-123); Structure and Practices of the Video Relay Service Program (CG Docket No. 10-51); Misuse of Internet Protocol Relay Service (CG Docket No. 12-38)
|  | Summary: The Commission will consider a Notice of Proposed Rulemaking that would seek comment on enhancements for Internet Protocol (IP) Relay and Video Relay Services (VRS), administrative reforms to streamline the TRS program, updating or eliminating obsolete rules, and closing outdated dockets.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairman may hold a news conference in which he will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Authority: This meeting is held, in accordance with the Government in the Sunshine Act (Sunshine Act), Public Law 94-409, as amended (5 U.S.C. 552b).

Federal Communications Commission.
Marlene Dortch,
Secretary.

[FR Doc. 2026-01556 Filed 1-23-26; 11:15 am]

BILLING CODE 6712-01-P